FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (www.fmc.gov) or contacting the Office of Agreements at (202) 523-5793 or tradeanalysis@fmc.gov.

Agreement No.: 201194.

Title: Marine Terminal Services Agreement between Port of Houston Authority and CMA CGM.

Parties: Port of Houston Authority and CMA CGM S.A.

Filing Party: Erik A. Eriksson, Esq.; General Counsel; Port of Houston Authority; PO Box 2562; Houston, TX 77252-2562.

Synopsis: The agreement authorizes Port of Houston Authority to establish discounted rates and preferential berthing rights for CMA CGM vessels calling at the port.

Agreement No.: 201195.

Title: Marine Terminal Services Agreement between Port of Houston Authority and CIA. SudAmericana de Vapores S.A.

Parties: Port of Houston Authority and CIA. SudAmericana de Vapores S.A.

Filing Party: Erik A. Eriksson, Esq.; General Counsel; Port of Houston Authority; PO Box 2562; Houston, TX 77252-2562.

Synopsis: The agreement authorizes Port of Houston Authority to establish discounted rates and preferential berthing rights for CIA. SudAmericana de Vapores S.A. vessels calling at the port.

By Order of the Federal Maritime Commission.
Dated: September 12, 2008.
Karen V. Gregory,
Assistant Secretary.

[FR Doc. E8-21757 Filed 9-16-08; 8:45 am]

BILLING CODE 6730-01-P